DEPARTMENT OF TRANSPORTATION

Federal Aviation Administration

14 CFR Part 39

[Docket No. FAA-2004-19470; Directorate Identifier 2003-NM-268-AD; Amendment 39-13997; AD 2005-05-08]

RIN 2120-AA64

Airworthiness Directives; Boeing Model 747-100B SUD, -300, -400, and -400D Series Airplanes

AGENCY: Federal Aviation Administration (FAA), Department of Transportation (DOT).

ACTION: Final rule.

SUMMARY: The FAA is adopting a new airworthiness directive (AD) for certain Boeing Model 747-100B SUD, -300, -400, and -400D series airplanes. This AD requires a one-time inspection for discrepancies of the fuselage frame to tension tie joints at body stations (BS) 1120 through 1220 and to determine if steel splice plates are installed on the fuselage frames, and related investigative and corrective actions. This AD is prompted by reports indicating that severed tension ties were found at the fuselage frame joints at BS 1120 and 1140. We are issuing this AD to prevent fatigue cracking of the fuselage frame to tension tie joints, which could result in severing of the tension ties and consequent rapid decompression of the airplane fuselage.

DATES: This AD becomes effective April 15, 2005.

The incorporation by reference of a certain publication listed in the AD is approved by the Director of the Federal Register as of April 15, 2005.

ADDRESSES: For service information identified in this AD, contact Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19470; the directorate identifier for this docket is 2003-NM-268-AD.

FOR FURTHER INFORMATION CONTACT: Ivan Li, Aerospace Engineer, Airframe Branch, ANM-120S, FAA, Seattle Aircraft Certification Office, 1601 Lind Avenue, SW., Renton, Washington 98055-4056; telephone (425) 917-6437; fax (425) 917-6590.

SUPPLEMENTARY INFORMATION: The FAA proposed to amend 14 CFR part 39 with an AD for certain Boeing Model 747-100B SUD, -300, -400, and -400D series airplanes. That action, published in the Federal Register on October 29, 2004 (69 FR 63106), proposed to require a one-time inspection for discrepancies of the fuselage frame to tension tie joints at body stations (BS) 1120 through 1220 and to determine if steel splice plates are installed on the fuselage frames, and related investigative and corrective actions.

Comments

We provided the public the opportunity to participate in the development of this AD. We have considered the comment that has been submitted on the proposed AD. The commenter supports the proposed AD.

Changes to Delegation Authority

Boeing has received a Delegation Option Authorization (DOA). We have revised this final rule to delegate the authority to approve an alternative method of compliance for any repair required by this AD to the Authorized Representative for the Boeing DOA Organization rather than the Designated Engineering Representative (DER).

Conclusion

We have carefully reviewed the available data, including the comments that have been submitted, and determined that air safety and the public interest require adopting the AD as proposed, with the change described previously.

Costs of Compliance

There are about 537 airplanes of the affected design in the worldwide fleet. This AD will affect about 67 airplanes of U.S. registry. The inspection will take about 2 work hours per airplane, at an average labor rate of $65 per work hour. Based on these figures, the estimated cost of the AD for U.S. operators is $8,710, or $130 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-05-08 Boeing: Amendment 39-13997. Docket No. FAA-2004-19470; Directorate Identifier 2003-NM-268-AD.

Effective Date

(a) This AD becomes effective April 15, 2005.

Affected ADs

(b) None.

Applicability

(c) This AD applies to Model 747-100B SUD, -300, -400, and -400D series airplanes; certificated in any category; as identified in Boeing Special Attention Service Bulletin 747-53-2483, Revision 1, dated August 28, 2003.

Unsafe Condition

(d) This AD was prompted by reports indicating that severed tension ties were found at the fuselage frame joints at body stations (BS) 1120 and 1140. We are issuing this AD to prevent fatigue cracking of the fuselage frame to tension tie joints, which could result in severing of the tension ties and consequent rapid decompression of the airplane fuselage.

Compliance

(e) You are responsible for having the actions required by this AD performed within the compliance times specified, unless the actions have already been done.

One-Time Inspection/Investigative and Corrective Actions

(f) Before the accumulation of 4,000 total flight cycles, or within 1,000 flight cycles after the effective date of this AD, whichever is later: Perform a detailed inspection for discrepancies of the fuselage frame to tension tie joints at BS 1120 through BS 1220, and to determine if steel splice plates are installed on the fuselage frames. Do the inspection in accordance with the Accomplishment Instructions of Boeing Special Attention Service Bulletin 747-53-2483, Revision 1, dated August 28, 2003. Do any applicable investigative and corrective actions before further flight in accordance with the service bulletin, except as provided by paragraph (h) of this AD.

Note 1: For the purposes of this AD, a detailed inspection is: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Determining Number of Flight Cycles for Compliance Time

(g) For the purposes of calculating the compliance threshold for the actions required by paragraph (f) of this AD, all pressurized flight cycles, including the number of flight cycles in which cabin differential pressure is at 2.0 pounds per square inch (psi) or less, must be counted when determining the number of flight cycles that have occurred on the airplane. Where the service bulletin and this AD differ, the AD prevails.

Repair Requirements

(h) For any repairs outside the limits of Boeing Special Attention Service Bulletin 747-53-2483, Revision 1, dated August 28, 2003, or if any aluminum splice plate is installed on the fuselage frames: Before further flight, repair or replace, as applicable, in accordance with a method approved by the Manager, Seattle Aircraft Certification Office (ACO), FAA; or in accordance with data meeting the certification basis of the airplane approved by an Authorized Representative for the Boeing Delegation Option Authorization Organization who has been authorized by the Manager, Seattle ACO, to make those findings. For a repair or replacement method to be approved, as required by this paragraph, the approval must specifically refer to this AD.

Actions Accomplished Per Previous Issue of Service Bulletin

(i) Inspections and corrective actions accomplished before the effective date of this AD in accordance with Boeing Special Attention Service Bulletin 747-53-2483, dated October 24, 2002, are considered acceptable for compliance with the corresponding actions specified in this AD.

No Reporting Requirements

(j) Although the Accomplishment Instructions of Boeing Special Attention Service Bulletin 747-53-2483, Revision 1, dated August 28, 2003; describe procedures for submitting certain information to the manufacturer, this AD does not require that action.

Alternative Methods of Compliance (AMOCs)

(k)(1) The Manager, Seattle ACO, has the authority to approve AMOCs for this AD, if requested in accordance with the procedures found in 14 CFR 39.19.

(2) An AMOC that provides an acceptable level of safety may be used for any repair required by this AD, if it is approved by an Authorized Representative for the Boeing Delegation Option Authorization Organization who has been authorized by the Manager, Seattle ACO, to make those findings. For a repair method to be approved, the repair must meet the certification basis of the airplane, and the approval must specifically refer to this AD.

Material Incorporated by Reference

(l) You must use Boeing Special Attention Service Bulletin 747-53-2483, Revision 1, dated August 28, 2003, to perform the actions that are required by this AD, unless the AD specifies otherwise. The Director of the Federal Register approves the incorporation by reference of this document in accordance with 5 U.S.C. 552(a) and 1 CFR part 51. For copies of the service information, contact Boeing Commercial Airplanes, P.O. Box 3707, Seattle, Washington 98124-2207. For information on the availability of this material at the National Archives and Records Administration (NARA), call (202) 741-6030, or go to http://www.archives.gov/federal_register/code_of_federal_regulations/ibr_locations.html. You may view the AD docket at the Docket Management Facility, U.S. Department of Transportation, 400 Seventh Street SW., room PL-401, Nassif Building, Washington, DC.

Issued in Renton, Washington, on February 28, 2005.
Ali Bahrami,
Manager, Transport Airplane Directorate, Aircraft Certification Service.

[FR Doc. 05-4410 Filed 3-10-05; 8:45 am]

BILLING CODE 4910-13-P